DEPARTMENT OF VETERANS AFFAIRS

[OMB Control No. 2900-NEW (Conduct the Point-of-Care Research Questionnaire)]

Proposed Information Collection (Conduct the Point-of-Care Research Questionnaire); Activities Under OMB Review

AGENCY: Veterans Health Administration, Department of Veterans Affairs.

ACTION: Notice.

SUMMARY: In compliance with the Paperwork Reduction Act (PRA) of 1995 (44 U.S.C. 3501-3521), this notice announces that the Veterans Health Administration, Department of Veterans Affairs, will submit the collection of information abstracted below to the Office of Management and Budget (OMB) for review and comment. The PRA submission describes the nature of the information collection and its expected cost and burden; it includes the actual data collection instrument.

DATES: Comments must be submitted on or before August 23, 2013.

ADDRESSES: Submit written comments on the collection of information through www.Regulations.gov; or to VA's OMB Desk Officer, OMB Human Resources and Housing Branch, New Executive Office Building, Room 10235, Washington, DC 20503 (202) 395-7316. Please refer to “OMB Control No. 2900-NEW (Conduct the Point of Care Research Questionnaire)” in any correspondence.

FOR FURTHER INFORMATION CONTACT: Crystal Rennie, Enterprise Records Service (005R1B), Department of Veterans Affairs, 810 Vermont Avenue NW., Washington, DC 20420, (202) 632-7492 or email: crystal.rennie@va.gov. Please refer to “OMB Control No. 2900-NEW (Conduct the Point-of-Care Research Questionnaire).”

SUPPLEMENTARY INFORMATION:

Title: Conduct the Point-of-Care Research Questionnaire, VA Form 10-10069.

OMB Control Number: 2900-NEW (Conduct the Point-of-Care Research Questionnaire)

Type of Review: New collection.

Abstract: The data collected on VA Form 10-10069 will be used as a grant to evaluate patient and provider attitudes and willingness to participate in Point-of-Care Research (POC-R). POC-R is an intermediary approach to bridge the gap between clinical trials and observation studies. The POC-R provides a potential mechanism for improving the breadth and significant of clinical research programs in VA. The objectives of this study are twofold: (1) identify the barriers and facilitators to adoption of a Point-of-care research innovation program by assessing the perceptions and attitudes of patients; and (2) produce guidelines for VHA regarding implementation of POC-R.

An agency may not conduct or sponsor, and a person is not required to respond to a collection of information unless it displays a currently valid OMB control number. The Federal Register Notice with a 60-day comment period soliciting comments on this collection of information was published on February 7, 2013 at pages 9108-9109.

Affected Public: Individuals or Households.

Estimated Annual Burden: 2,000 hours.

Estimated Average Burden Per Respondent: 15 minutes.

Frequency of Response: Annually.

Estimated Number of Respondents: 8,000.

Dated: July 18, 2013.
By direction of the Secretary.
Crystal Rennie,
VA Clearance Officer, U.S. Department of Veterans Affairs.

[FR Doc. 2013-17709 Filed 7-23-13; 8:45 am]

BILLING CODE 8320-01-P